NATIONAL CREDIT UNION ADMINISTRATION

Agency Information Collection Activities: Proposed Collection; Comment Request

AGENCY: National Credit Union Administration (NCUA).

ACTION: Notice and request for comment.

SUMMARY: The National Credit Union Administration (NCUA), as part of a continuing effort to reduce paperwork and respondent burden, invites the general public and other Federal agencies to comment on the following extensions of a currently approved collection, as required by the Paperwork Reduction Act of 1995.

DATES: Written comments should be received on or before June 2, 2020 to be assured consideration.

ADDRESSES: Interested persons are invited to submit written comments on the information collection to Mackie Malaka, National Credit Union Administration, 1775 Duke Street, Suite 6060, Alexandria, Virginia 22314; Fax No. 703-519-8579; or Email at PRAComments@NCUA.gov.

FOR FURTHER INFORMATION CONTACT: Address requests for additional information to Mackie Malaka at the address above or telephone 703-548-2704.

SUPPLEMENTARY INFORMATION:

OMB Number: 3133-0135.

Title: Authorization Agreement for Electronic Funds Transfer Payment.

Type of Review: Extension of a currently approved collection.

Abstract: The NCUA is required under the Debt Collection Improvement Act of 1996 to issue payments to credit unions and all other entities electronically. The “Authorization Agreement for Electronic Funds Transfer Payment” form is used to maintain up-to-date and accurate electronic payment data for new and existing credit unions. NCUA will use the information to update its vendor (credit union) electronic routing and transit data database to enable transmittal of funds and payments. If this information is not collected, NCUA will not be able to make payment electronically through the Automated Clearing House (ACH) and will be in non-compliance with the Debt Collection Improvement Act of 1996.

Affected Public: Private Sector: Not-for-profit institutions.

Estimated No. of Respondents: 100.

Estimated No. of Responses per Respondent: 1.

Estimated Total Annual Responses: 100.

Estimated Burden Hours per Response: 15 mins.

Estimated Total Annual Burden Hours: 25.

OMB Number: 3133-0166.

Title: Home Mortgage Disclosure Act (HMDA), 12 CFR 1003 (Reg C).

Type of Review: Extension of a currently approved collection.

Abstract: HMDA was enacted in 1975 and requires most mortgage lenders lending in metropolitan areas to collect data about their housing-related lending activity. The Dodd-Frank Wall Street Reform and Consumer Protection Act of 2010 transferred rulemaking authority for HMDA to the Consumer Financial Protection Bureau (CFPB).

Regulation C, 12 CFR part 1003, requires financial institutions that meet certain thresholds to report data annually about Each application or loan, including the application date; the action taken and the date of that action; the loan amount; the loan type and purpose; and, if the loan is sold, the type of purchaser; Each applicant or borrower, including ethnicity, race, sex, and income; and Each property, including location and occupancy status.

A covered lender generally must update information quarterly, all reportable transaction must be recorded within 30 calendar days after the end of the calendar quarter in which final action is taken on a loan application register (LAR), and must submit the completed LAR annually to the appropriate Federal agency by March 1 of the year following the year covered by the LAR. The Federal Financial Institutions Examination Council (FFIEC) then prepares a disclosure statement from data submitted by the financial institutions, and provides the disclosure statement to the financial institution. Within three business days of receiving its statement, the financial institution must make a copy available at its home office. In addition, within ten business days of receiving its disclosure statement, the financial institution must either: (1) Make the disclosure statement available in at least one branch office in every Metropolitan Statistical Area (MSA) and Metropolitan Division (Division) where it has an office or (2) post a notice in at least one branch office per MSA and Division where it has an office stating that the disclosure statement is available upon written request. A covered lender must make each public disclosure statement available to the public for five years.

Each financial institution must retain its completed LAR for three years and during that period it must make its LAR available to the public after redacting certain information to protect the privacy of its applicants and borrowers.

Affected Public: Private Sector; Not-for-profit institutions.

Estimated No. of Respondents: 1,108.

Estimated No. of Responses per Respondent: 1,172.

Estimated Total Annual Responses: 1,298,105.

Estimated Burden Hours per Response: 5 mins.

Estimated Total Annual Burden Hours: 108,175.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on March 31, 2020.
Dated: March 31, 2020.
Mackie I. Malaka,
NCUA PRA Clearance Officer.

[FR Doc. 2020-07035 Filed 4-2-20; 8:45 am]

BILLING CODE 7535-01-P